DEPARTMENT OF ENERGY

Federal Energy Regulatory Commission

[Docket No. EC05-131-000]

Dynegy Holdings, Inc., et al.; Notice of Filing

August 25, 2005.

Take notice that on August 23, 2005, Dynegy Holdings, Inc. (Dynegy Holdings), Dynegy Power Corp. (DPC), Bluegrass Generation Company, L.L.C., Calcasieu Power, LLC, Dynegy Danskammer, L.L.C., Dynegy Roseton, L.L.C., Heard County Power, L.L.C., Renaissance Power, L.L.C., Riverside Generating Company, L.L.C., Rockingham Power, L.L.C., Rocky Road Power, LLC, Rolling Hills Generating, L.L.C., and DMT Holdings, Inc. (DMT Holdings) (collectively, Applicants) submitted an application pursuant to section 203 of the Federal Power Act for authorization of a disposition of jurisdictional facilities pursuant to an intra-corporate reorganization that results in DPC, now a direct wholly-owned subsidiary of Dynegy Holdings, becoming an indirect wholly-owned subsidiary of Dynegy Holdings with DMT Holdings, also a direct wholly-owned subsidiary of Dynegy Holdings, being inserted as DPC's direct upstream parent. (Transaction). Applicants state that the Transaction as an intra-corporate restructuring would be accomplished pursuant to authorizing board and shareholder resolutions.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on September 13, 2005.

Linda Mitry,
Deputy Secretary.

[FR Doc. E5-4791 Filed 8-31-05; 8:45 am]

BILLING CODE 6717-01-P